DEPARTMENT OF TRANSPORTATION

Federal Railroad Administration

[Docket Number FRA-2020-0033]

Petition for Waiver of Compliance

Under part 211 of title 49 Code of Federal Regulations (CFR), this document provides the public notice that on April 17, 2020, BNSF Railway Company (BNSF) petitioned the Federal Railroad Administration (FRA) for a waiver of compliance from certain provisions of the Federal railroad safety regulations contained at 49 CFR part 215, Railroad Freight Car Safety Standards, and part 232, Brake System Safety Standards For Freight And Other Non-Passenger Trains And Equipment; End-Of-Train Devices. FRA assigned the petition Docket Number FRA-2020-0033.

Specifically, BNSF requests relief from 49 CFR 215.13, Pre-departure inspection, which requires an inspection when combining two separate consists including one or more cars and one or more locomotives that have been properly inspected and tested in compliance with all applicable regulations, meaning that both consists have had a Class I brake test (§ 232.205), Class IA brake test (§ 232.207), or have been designated as extended haul trains and are compliant with all requirements of § 232.213. BNSF states that the requested relief will allow combining two existing and operating trains without additional inspections, besides a Class III brake test. It further states that the relief will allow subsequent separation of two trains without additional inspections, besides a Class III brake test, provided that a record of the original consist remains intact.

In support of its petition, BNSF states that trains to be combined will include both trains operating with head-end locomotives and trains operating with locomotives equipped with LOCOTROL or Radio Controlled Distributed Power Technology (DP), which was developed by GE Transportation Systems. DP technology allows locomotives to be placed strategically in a train and controlled remotely by a leading locomotive at the head of the train. Once trains are combined, BNSF will operate the combined train as a DP train (if it is longer than 10,000 feet) until the train is separated or reaches its destination. The combined train will be allowed one pick-up and/or set-out with the inclusion of the separating event, and the air slips for both trains that were combined will be maintained from the point of combining through the duration of the trip.

BNSF explains that an additional inspection when combining trains is redundant because each train to be combined has had a brake test and inspection and a § 215.13 pre-departure inspection. Further, BNSF states that the combined train will continue to receive designated inspection(s) as required or pre-designated prior to the combining event and that no cars will exceed the brake test mileage for which they were originally inspected.

BNSF states that the requested relief will reduce exposure to potential hazards faced by train crews or mechanical inspectors when walking both sides of a pre-tested train being combined. It also contends that the relief will encourage greater utilization of trains under DP configuration across its network, which may improve engineers' ability to control in train forces and improves overall braking characteristics by having multiple locations within a train with cut-in brake valves. This allows brake pipe reductions to occur simultaneously at multiple points within a train promoting smoother brake applications and keeping in train forces at a minimum. These benefits are also gained with an emergency brake application which propagates more rapidly when occurring simultaneously from multiple points within the train.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by June 26, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety Chief Safety Officer.

[FR Doc. 2020-11338 Filed 5-26-20; 8:45 am]

BILLING CODE 4910-06-P